DEPARTMENT OF THE INTERIOR

Bureau of Land Management

[OR-030-1020-XX-028H; HAG 04-0116]

Meeting Notice for the John Day/Snake Resource Advisory Council

AGENCY: Bureau of Land Management (BLM), Vale District.

SUMMARY: The John Day/Snake Resource Advisory Council will meet on Thursday, April 22, 2004, at the Oxford Suites, 2400 SW Court Place, Pendleton, OR 97801, 8 a.m. to 4 p.m. (Pacific time).

The meeting may include such topics as, Wild Horse & Burro Program; Blue Mountain Revision Team; and Healthy Forest Restoration Act. There will also be subcommittee updates on OHV, Planning and Sage Grouse and other matters as may reasonably come before the board.

The entire meeting is open to the public. For a copy of the information to be distributed to the Council members, please submit a written request to the Vale District Office 10 days prior to the meeting. Public comment is scheduled for 11 a.m. to 11:15 a.m., Pacific time (p.t.).

FOR FURTHER INFORMATION CONTACT: Additional information concerning the John Day/Snake Resource Advisory Council may be obtained from Peggy Diegan, Management Assistant/Webmaster, Vale District Office, 100 Oregon Street, Vale, OR 97918, (541) 473-3144, or e-mail Peggy_Diegan@or.blm.gov.

Dated: March 5, 2004.
David R. Henderson,
District Manager.

[FR Doc. 04-5443 Filed 3-10-04; 8:45 am]

BILLING CODE 4310-33-P